NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 11, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@ nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-02-1, 2 items, 2 temporary items). Records relating to endangered species and their habitats. Included are correspondence, reports, briefings, and graphics pertaining to Army compliance with the Endangered Species Act. Also included are electronic copies of records created using electronic mail and word processing. The schedule also authorizes the agency to apply the proposed disposition instructions to any recordkeeping medium.

2. Department of the Army, Agency-wide (N1-AU-02-4, 2 items, 2 temporary items). Records relating to public works activities such as facilities repair, maintenance, and minor construction projects. Included are service orders, work requests, and related documents. Also included are electronic copies of documents created using electronic mail and word processing. The schedule also authorizes the agency to apply the proposed disposition instructions to any recordkeeping medium.

3. Department of the Army, Agency-wide (N1-AU-02-5, 2 items, 2 temporary items). Correspondence relating to the criteria, standards, and practices employed in the maintenance, repair, operation, conservation, and improvement of public works at military installations. Also included are electronic copies of documents created using electronic mail and word processing. This schedule reduces the retention period for the recordkeeping copies of these files, which were previously approved for disposal, and also authorizes the agency to apply the proposed disposition instructions to any recordkeeping medium.

4. Department of the Army, Agency-wide (N1-AU-02-6, 2 items, 2 temporary items). Records relating to notarial services. Included are exceptions to policy, notarial certifications, and memorandums granting individuals notarial authority. Also included are electronic copies of documents created using electronic mail and word processing. The schedule also authorizes the agency to apply the proposed disposition instructions to any recordkeeping medium.

5. Department of the Army, Agency-wide (N1-AU-02-7, 2 items, 2 temporary items). Records relating to nonappropriated fund employee job descriptions. Included are master job descriptions, job standards, and similar information used in the analysis, development, and evaluation of specific jobs. Also included are electronic copies of documents created using electronic mail and word processing. The schedule also authorizes the agency to apply the proposed disposition instructions to any recordkeeping medium.

6. Department of Commerce, U.S. Patent and Trademark Office (N1-241-02-1, 3 items, 2 temporary items). Records documenting provisional patent applications submitted by inventors to claim an early effective filing date for submitted patents that are not referenced in applications that are issued as patents. Included are written descriptions of the inventions, applicable drawings, related filing information from applicants, and reference copies of these records. Proposed for permanent retention are recordkeeping copies of provisional patent application files referenced in applications that are issued as patents.

7. Department of Commerce, National Oceanographic and Atmospheric Administration (N1-370-00-3, 58 items, 46 temporary items). Records documenting the planning and production of nautical charts and hydrographic surveys that define the navigable waters of the United States. Included are field survey data, planning and coordination files, production and quality assurance records, and electronic copies of records created using electronic mail and word processing. Proposed for permanent retention are recordkeeping copies of such final products as nautical charts, hydrographic surveys, and supplementary reports as well as data concerning wrecks and obstructions.

8. Department of Defense, Army and Air Force Exchange Service (N1-334-02-1, 2 items, 2 temporary items). Short term records relating to the individual retirement benefits of nonappropriated fund employees. Included are such records as annuity payment schedules, individual disbursements, and qualified domestic relations orders. Also included are electronic copies of documents created using electronic mail and word processing. This schedule authorizes the agency to apply the proposed disposition instructions to any recordkeeping medium.

9. Department of Energy, Assistant Secretary for Fossil Energy (N1-434-01-7, 7 items, 4 temporary items). Records of the Naval Petroleum and Oil Shale Reserves Program relating to natural gas and crude oil contracts and estimated revenue from sales. Included are such records as natural gas contract summaries, public relations requests, invitations for bids, contract amendments and awards, and related correspondence. Also included are electronic copies of documents created using electronic mail and word processing. Proposed for permanent retention are recordkeeping copies of such records as studies concerning marketing and sales strategies, engineering and technical studies, state-of-the-art recovery procedures, quality assurance requirements, and real estate agreement files.

10. Department of Health and Human Services, Centers for Medicare and Medicaid Services (N1-440-01-4, 11 items, 11 temporary items). Records relating to the Clinical Laboratory Improvement Program under which labs are tested to ensure that the work they do is accurate and reliable. Included are correspondence, approvals, summary reports pertaining to annual proficiency testing, records relating to annual reviews of laboratory accreditation organizations, and fiscal records pertaining to user fees paid by labs taking part in the program. Also included are electronic copies of records created using electronic mail and word processing.

11. Department of Housing and Urban Development, Community Planning and Development (N1-207-02-2, 4 items, 4 temporary items). Economic Development Initiative targeted grant case files, which contain such documents as applications, correspondence, progress reports, and budget records. Also included are electronic copies of records created using electronic mail and word processing.

12. Department of Housing and Urban Development, Fair Housing and Equal Opportunity (N1-207-02-3, 4 items, 4 temporary items). Fair Housing Initiative Program grant application case files, which consist of such records as applications, payment schedules, statements of work, and related correspondence. Also included are electronic copies of records created using electronic mail and word processing.

13. Department of the Interior, U.S. Geological Survey (N1-57-02-1, 8 items, 8 temporary items). Records relating to agency Y2K activities, including the development of policies and plans and their implementation and the analysis of specific systems. Also included are electronic copies of records created using electronic mail and word processing.

14. Department of Labor, Employment Standards Administration (N1-448-01-4, 78 items, 67 temporary items). Records of the Office of Management, Administration and Planning relating to such matters as management reviews, studies and initiatives, the implementation of plain language, continuity of Government, agency assistance to colleges, tort litigation reporting, the provision of data to the Immigration and Naturalization Service, financial accounting, strategic planning, and program evaluation. Also included are electronic copies of documents created using electronic mail and word processing. Most of the series included in this schedule were previously approved for disposal. This schedule shortens the retention periods for several of these series, including employee conduct investigations, files relating to financial management and chargebacks, and materials prepared in response to congressional inquiries. The disposition instructions for most of the other previously approved series in the schedule are unchanged but are included since the agency wishes all of the Office's records to be covered by a single schedule. Proposed for permanent retention for the first time are recordkeeping copies of biographical data concerning high level employees. Recordkeeping copies of such files as organization charts and reorganization studies, mission statements, records relating to legislation, briefing books, and press releases were previously approved as permanent.

15. National Credit Union Administration, Office of the Chief Information Officer (N1-413-02-2, 57 items, 55 temporary items). Electronic systems relating to credit union supervision, examination, and insurance activities. Included are inputs, outputs, system data, and the related documentation for systems containing information concerning such matters as the current status and history of active and inactive credit unions, member share and loan transactions, the identities of directors and other credit union officials, correspondence tracking within the agency's Office of Corporate Credit Unions, and insurance related services. Proposed for permanent retention are the electronic data and related documentation for one system that pertains to the annual examination of credit unions to evaluate their soundness.

Dated: January 9, 2002.
Michael J. Kurtz,
Assistant Archivist for Record Services—Washington, DC.

[FR Doc. 02-1606 Filed 1-22-02; 8:45 am]

BILLING CODE 7515-01-P